DEPARTMENT OF AGRICULTURE

Forest Service

Southern New Mexico Resource Advisory Committee

AGENCY: Forest Service, USDA.

ACTION: Notice of meeting.

SUMMARY: The Southern New Mexico Resource Advisory Committee will meet in Socorro, New Mexico. The purpose of the committee is to improve collaborative relationships and to provide advice and recommendations to the Forest Service concerning projects and funding consistent with the title II of the Act. The meeting is open to the public. The purpose of the meeting is to review project proposals to be initiated with title II funds.

DATES: The meeting will be held September 6, 2012, 8 a.m.

ADDRESSES: The meeting will be held at Socorro County Annex Building, 198 Neel Avenue.

Written comments may be submitted as described under SUPPLEMENTARY INFORMATION. All comments, including names and addresses when provided, are placed in the record and are available for public inspection and copying. The public may inspect comments received at the Lincoln National Forest Supervisor's Office, 3463 Las Palomas Road, Alamogordo, NM 88310. Please call ahead to 575-434-7200 to facilitate entry into the building to view comments.

FOR FURTHER INFORMATION CONTACT: Patti Turpin, RAC Coordinator, 575-434-7230 or pturpin@fs.fed.us.

Individuals who use telecommunication devices for the deaf (TDD) may call the Federal Information Relay Service (FIRS) at 1-800-877-8339 between 8:00 a.m. and 8:00 p.m., Eastern Standard Time, Monday through Friday. Requests for reasonable accommodation for access to the facility or procedings may be made by contacting the person listed FOR FURTHER INFORMATION CONTACT .

SUPPLEMENTARY INFORMATION: The committee is authorized under the Secure Rural Schools and Community Self-Determination Act (Pub. L 112-141) (the Act) and operates in compliance with the Federal Advisory Committee Act. The following business will be conducted: (1) Review of project proposals for initiation of title II funds; and (2) Public comment. The full agenda and order of proposal presentations can be found at https://fsplaces.fs.fed.us/fsfiles/unit/wo/secure_rural_schools.nsf/RAC/Southern+New+Mexico?OpenDocument.

Anyone who would like to bring related matters to the attention of the committee may file written statements with the committee staff before or after the meeting. The agenda will include time for people to make oral statements of three minutes or less. Individuals wishing to make an oral statement should request in writing by August 24 to be scheduled on the agenda.

Written comments and requests for time for oral comments must be sent to Patti Turpin by postal service, email, or facsimile (575-434-7218). A summary of the meeting will be posted at https://fsplaces.fs.fed.us/fsfiles/unit/wo/secure_rural_schools.nsf/RAC/Southern+New+Mexico?OpenDocument within 21 days of the meeting.

Dated: August 13, 2012.
Kelly Russell,
Designated Federal Official.

[FR Doc. 2012-20224 Filed 8-16-12; 8:45 am]

BILLING CODE 3410-11-P